DEPARTMENT OF HOMELAND SECURITY

Coast Guard

[Docket No. USCG-2022-0393]

National Maritime Security Advisory Committee; July 2022 Virtual Meeting

AGENCY: U.S. Coast Guard, Department of Homeland Security.

ACTION: Notice of Federal Advisory Committee virtual meeting.

SUMMARY: The National Maritime Security Advisory Committee (Committee) will conduct a virtual meeting, to review and discuss matters relating to national maritime security. Specifically, the Coast Guard intends to present and issue a task focused on improving and enhancing the sharing of information related to cybersecurity risks that may cause a transportation security incident. This virtual meeting will be open to the public.

DATES:

Meeting: The Committee will meet virtually on Tuesday, July 12, 2022 from 1 p.m. until 3 p.m. Eastern Daylight Time (EDT). This virtual meeting may close early if all business is finished.

Comments and supporting documentation: To ensure your comments are received by Committee members before the virtual meeting, submit your written comments no later than July 8, 2022.

ADDRESSES: To join the virtual meeting or to request special accommodations, contact the individual listed in the FOR FURTHER INFORMATION CONTACT section no later than 1 p.m. EDT on July 8, 2022, to obtain the needed information. The number of virtual lines are limited and will be available on a first-come, first-served basis.

The National Maritime Security Advisory Committee is committed to ensuring all participants have equal access regardless of disability status. If you require reasonable accommodation due to a disability to fully participate, please call or email the individual in the FOR FURTHER INFORMATION CONTACT section of this document as soon as possible.

Instructions: You are free to submit comments at any time, including orally at the meeting as time permits, but if you want Committee members to review your comment before the meeting, please submit your comments no later than July 8, 2022. We are particularly interested in comments on the issues in the “Agenda” section below. We encourage you to submit comments through Federal eRulemaking Portal at https://regulations.gov. If your material cannot be submitted using https://www.regulations.gov, call or email the individual in the FOR FURTHER INFORMATION CONTACT section of this document for alternate instructions. You must include the docket number [USCG- 2022-0393]. Comments received will be posted without alteration at https://www.regulations.gov including any personal information provided. You may wish to read the Privacy and Security Notice found via a link on the homepage of https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-302-6565 or email ryan.f.owens@uscg.mil.

SUPPLEMENTARY INFORMATION: Notice of this meeting is in compliance with the Federal Advisory Committee Act, (5, U. S. C., Appendix). The Committee was established on December 4, 2018, by § 602 of the Frank LoBiondo Coast Guard Authorization Act of 2018, Public Law 115-282, 132 Stat. 4192, and is codified in 46 U.S.C. 70112. The Committee operates under the provisions of the Federal Advisory Committee Act, (5 U.S.C. Appendix), and 46 U.S.C. 15109. The National Maritime Security Advisory Committee provides advice, consults with, and makes recommendations to the Secretary of Homeland Security, via the Commandant of the Coast Guard, on matters relating to national maritime security.

Agenda

(1) Call to Order.

(2) Introduction.

(3) Designated Federal Official Remarks.

(4) Roll call of Committee members and determination of quorum.

(5) Update of task. The NMSAC will present an update on their work to complete task T2021-01, Recommendations on Cybersecurity Information Sharing.

(6) Presentation of task. The Coast Guard will present NMSAC with a tasking concerning the Transportation Worker Identification Credential.

(7) Public comment period.

(8) Closing Remarks/plans for next meeting.

(9) Adjournment of meeting.

A copy of all pre-meeting documentation will be available at https://homeport.uscg.mil/NMSAC by July 8, 2022. Alternatively, you may contact Mr. Ryan Owens as noted in the FOR FURTHER INFORMATION CONTACT section above.

There will be a public comment period at the end of the meeting. Speakers are requested to limit their comments to 3 minutes. Please note that the public comment period may end before the period allotted, following the last call for comments. Contact the individual listed in the FOR FURTHER INFORMATION CONTACT section above to register as a speaker.

Dated: June 16, 2022.
Jason D. Neubauer,
Captain, U.S. Coast Guard, Acting Director of Inspections and Compliance.

[FR Doc. 2022-13341 Filed 6-21-22; 8:45 am]

BILLING CODE 9110-04-P